DEPARTMENT OF HOMELAND SECURITY

Transportation Security Administration

[Docket No. TSA-2002-11602]

Intent To Request Renewal From OMB of One Current Public Collection of Information: Security Programs for Foreign Air Carriers

AGENCY: Transportation Security Administration (TSA), DHS.

ACTION: Notice.

SUMMARY: TSA invites public comment on one currently approved information collection requirement abstracted below that we will submit to the Office of Management and Budget (OMB) for renewal in compliance with the Paperwork Reduction Act.

DATES: Send your comments by December 20, 2005.

ADDRESSES: Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0005; Security Programs for Foreign Air Carriers, 49 CFR part 1546. The Federal Aviation Administration initially required this collection under 14 CFR part 129 (now 49 CFR part 1546) and cleared under OMB control number 2120-0536. The responsibility for the collection was transferred to TSA and assigned OMB control number 1652-0005. The information collected is used to determine compliance with 49 CFR part 1546 and to ensure passenger safety by monitoring foreign air carrier security procedures. These security programs establish procedures that foreign air carriers must carry out to protect persons and property against acts of criminal violence, aircraft piracy, and terrorist activities. This information collection is mandatory for foreign air carriers and must be submitted prior to gaining entry into the United States.

The information requested of foreign air carriers has increased due to the security measures mandated by the Federal Government since September 11, 2001. Because TSA has taken over airport passenger and cargo screening requirements within the United States, the recordkeeping requirements regarding screening have been reduced. However, TSA has implemented additional security requirements, most of which include recordkeeping requirements and for which the burden has yet to be calculated. The additional information TSA now collects includes identifying information on foreign air carriers' flight crews and passengers. Specifically, TSA requires foreign carriers to submit the following information: (1) A master crew list of all flight and cabin crew members flying to and from the United States; (2) the flight crew list on a flight-by-flight basis; and (3) passenger information on a flight-by-flight basis. Foreign carriers are required to provide this information via electronic means. Foreign carriers with limited electronic systems may need to modify their current systems or generate a new computer system in order to submit the requested information. Additionally, foreign carriers must maintain these records.

Other requirements contained in part 1546 will continue and TSA will continue to gather information for those requirements. TSA is still analyzing the new hour and cost burden estimates for the expanded information requirements discussed above. TSA will further report and publish these estimates; however, it is not possible to provide the burden information at this time.

Issued in Arlington, Virginia, on October 17, 2005.
Lisa S. Dean,
Privacy Officer.

[FR Doc. 05-21079 Filed 10-20-05; 8:45 am]

BILLING CODE 4910-62-P